DEPARTMENT OF TRANSPORTATION

Surface Transportation Board

[STB Finance Docket No. 35203]

Alabama Warrior Railway, L.L.C.—Operation Exemption—Sloss Industries Corporation and Jefferson Warrior Railroad Company, Inc.

Alabama Warrior Railway, L.L.C. (AWR), a noncarrier, has filed a verified notice of exemption under 49 CFR 1150.31 to operate approximately 24.575 miles of rail lines owned by Sloss Industries Corporation (Sloss) and Jefferson Warrior Railroad Company, Inc. (JWR) ¹ between: (1) the entrance to the Sloss properties at 35th Avenue North and extending in a northeasterly direction through the Sloss properties to a point near Summit Street; and (2) the south leg of the wye located near the intersection of Erwin Dairy Road and 37th Street North and the Lehigh Yard located approximately .75-miles to the south of the wye.² Also, JWR will assign its operating rights to AWR over approximately 1,532.1 feet of rail line owned by BNSF Railway Company (BNSF), between BNSF STA. 58 +50.90 and BNSF STA. 73+83 on the Dimmick City Main Track. All of the rail lines are located in Birmingham, AL.

¹ Sloss and JWR are affiliated companies.

² AWR states that there are no mileposts associated with the rail lines.

This transaction is related to a concurrently filed verified notice of exemption in STB Finance Docket No. 35204, Watco Companies, Inc.—Continuance in Control Exemption—Alabama Warrior Railway, L.L.C. In that proceeding, Watco Companies, Inc., has filed a verified notice of exemption to continue in control of AWR, upon AWR becoming a Class III rail carrier.

The transaction is expected to be consummated on or shortly after December 26, 2008 (the effective date of the exemption).

AWR certifies that its projected annual revenues as a result of the transaction will not result in AWR's becoming a Class II or Class I rail carrier and further certifies that its projected annual revenue will not exceed $5 million.

Pursuant to the Consolidated Appropriations Act, 2008, Pub. L. No. 110-161, § 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than December 19, 2008 (at least 7 days before the exemption becomes effective).

An original and 10 copies of all pleadings, referring to STB Finance Docket No. 35203, must be filed with the Surface Transportation Board, 395 E Street, SW., Washington, DC 20423-0001. In addition, a copy of each pleading must be served on Karl Morell, 1455 F Street, NW., Suite 225, Washington, DC 20005.

Board decisions and notices are available on our Web site at http://www.stb.dot.gov.

Decided: December 5, 2008.
By the Board, David M. Konschnik, Director, Office of Proceedings.
Jeffrey Herzig,
Clearance Clerk.

[FR Doc. E8-29313 Filed 12-11-08; 8:45 am]

BILLING CODE 4915-01-P